DEPARTMENT OF COMMERCE

International Trade Administration

A-570-890

Wooden Bedroom Furniture from the People's Republic of China: Initiation of Antidumping Duty New Shipper Reviews

AGENCY: Import Administration, International Trade Administration, Department of Commerce.

EFFECTIVE DATE: August 26, 2009.

SUMMARY: The Department of Commerce (Department) has determined that two timely requests for new shipper reviews of the antidumping duty order on wooden bedroom furniture from the People's Republic of China (PRC) meet the statutory and regulatory requirements for initiation. For one of the two new shipper reviews that the Department is initiating, the period of review (POR) is January 1, 2009, through June 30, 2009. For the other new shipper review where the shipment entered after the period January 1, 2009, through June 30, 2009, the Department is initiating and extending the POR by thirty days, pursuant to 19 CFR 351.214(f)(2)(ii). The POR for this new shipper review is January 1, 2009, through July 30, 2009.

FOR FURTHER INFORMATION CONTACT: Howard Smith or Drew Jackson, AD/CVD Operations, Office 4, Import Administration, International Trade Administration, U.S. Department of Commerce, 14th Street and Constitution Avenue, NW, Washington, DC 20230; telephone: (202) 482-5193 or (202) 482-4406, respectively.

SUPPLEMENTARY INFORMATION:

Background

The notice announcing the antidumping duty order on wooden bedroom furniture from the PRC was published on January 4, 2005. See Notice of Amended Final Determination of Sales at Less Than Fair Value and Antidumping Duty Order: Wooden Bedroom Furniture from the People's Republic of China, 70 FR 329 (January 4, 2005). On July 31, 2009, pursuant to section 751(a)(2)(B)(i) of the Tariff Act of 1930, as amended (the Act), and 19 CFR 351.214(c), the Department received timely requests for new shipper reviews from Rise Furniture Co., Ltd. (Rise Furniture), and Zhejiang Tianyi Scientific & Educational Equipment Co., Ltd. (Zhejiang Tianyi). Rise Furniture and Zhejiang Tianyi certified that they are each the producer and exporter of the subject merchandise upon which their respective request for a new shipper review was based.

Pursuant to section 751(a)(2)(B)(i)(I) of the Act and 19 CFR 351.214(b)(2)(i), Rise Furniture and Zhejiang Tianyi certified that they did not export wooden bedroom furniture to the United States during the period of investigation (POI). In addition, pursuant to section 751(a)(2)(B)(i)(II) of the Act and 19 CFR 351.214(b)(2)(iii)(A), Rise Furniture and Zhejiang Tianyi certified that, since the initiation of the investigation, they have never been affiliated with any PRC exporter or producer who exported wooden bedroom furniture to the United States during the POI, including those not individually examined during the investigation. As required by 19 CFR 351.214(b)(2)(iii)(B), Rise Furniture and Zhejiang Tianyi, also certified that their export activities were not controlled by the central government of the PRC.

In addition to the certifications described above, pursuant to 19 CFR 351.214(b)(2)(iv), Rise Furniture and Zhejiang Tianyi submitted documentation establishing the following: (1) the date on which Rise Furniture and Zhejiang Tianyi first shipped wooden bedroom furniture for export to the United States and the date on which the wooden bedroom furniture was first entered, or withdrawn from warehouse, for consumption;¹ (2) the volume of their first shipment;² and (3) the date of their first sale to an unaffiliated customer in the United States.

¹ Rise Furniture reported that its shipment of subject merchandise entered during the POR for this new shipper review (i.e., prior to July 1, 2009); however, the results of the Department's query of CBP data indicate that the shipment entered shortly after the end of the POR. See Memorandum to the File through Abdelali Elouaradia, Director, AD/CVD Operations, Office 4: New Shipper Review of Wooden Bedroom Furniture, Placing CBP data on the record, dated concurrently with this notice.

² Rise Furniture and Zhejiang Tianyi made no subsequent shipments to the United States.

The Department conducted U.S. Customs and Border Protection (CBP) database queries and confirmed that Rise Furniture's and Zhejiang Tianyi's shipments of subject merchandise had entered the United States for consumption and that liquidation of such entries had been properly suspended for antidumping duties. The Department also confirmed by examining the CBP data that Zhejiang Tianyi's entry was made during the POR specified by the Department's regulations.

When the sale of the subject merchandise occurs within the POR specified by the Department's regulations but the entry occurs after the POR, the specified POR may be extended unless it would be likely to prevent the completion of the review within the time limits set by the Department's regulations. See 19 CFR 351.214(f)(2)(ii). Additionally, the preamble to the Department's regulations states that both the entry and the sale should occur during the POR, and that under “appropriate” circumstances the Department has the flexibility to extend the POR. See Antidumping Duties; Countervailing Duties; Final Rule, 62 FR 27296, 27319-27320 (May 19, 1997). In this instance, Rise Furniture's sale of subject merchandise was made during the POR specified by the Department's regulations but the shipment entered within thirty days after the end of that POR. The Department finds that extending the POR to capture this entry would not prevent the completion of the review within the time limits set by the Department's regulations. Therefore, the Department has extended the POR for the new shipper review of Rise Furniture by thirty days. See Memorandum to the File through Abdelali Elouaradia, Director, AD/CVD Operations, Office 4: New Shipper Review of Wooden Bedroom Furniture, Placing CBP data on the record, dated concurrently with this notice.

Initiation of New Shipper Reviews

Pursuant to section 751(a)(2)(B) of the Act and 19 CFR 351.214(d)(1), the Department finds that Rise Furniture and Zhejiang Tianyi meet the threshold requirements for initiation of new shipper reviews of their shipments of wooden bedroom furniture from the PRC. See Memorandum to the File through Abdelali Elouaradia, Director, AD/CVD Operations, Office 4: Initiation of AD New Shipper Review: Wooden Bedroom from the People's Republic of China, and the attached New Shipper Initiation Checklists, dated concurrently with this notice.

The POR for the new shipper review of Zhejiang Tianyi is January 1, 2009, through June 30, 2009. See 19 CFR 351.214(g)(1)(i)(B). As discussed above, the POR for the new shipper review of Rise Furniture is January 1, 2009, through July 30, 2009. The Department intends to issue the preliminary results of these reviews no later than 180 days from the date of initiation, and the final results of these reviews no later than 270 days from the date of initiation. See section 751(a)(2)(B)(iv) of the Act.

It is the Department's usual practice, in cases involving non-market economies, to require that a company seeking to establish eligibility for an antidumping duty rate separate from the country-wide rate provide evidence of de jure and de facto absence of government control over the company's export activities. Accordingly, we will issue questionnaires to Rise Furniture and Zhejiang Tianyi, which will include a separate rate section. The review of each exporter will proceed if the response provides sufficient indication that the exporter is not subject to either de jure or de facto government control with respect to its export of wooden bedroom furniture.

We will instruct the CBP to allow, at the option of the importer, the posting, until the completion of the review, of a bond or security in lieu of a cash deposit for each entry of the subject merchandise from Rise Furniture and Zhejiang Tianyi in accordance with section 751(a)(2)(B)(iii) of the Act and 19 CFR 351.214(e). Because Rise Furniture and Zhejiang Tianyi certified that they both produce and export the subject merchandise, the sale of which is the basis for these new shipper review requests, we will apply the bonding privilege to each respondent only for subject merchandise which the respondent both produced and exported.

Interested parties requiring access to proprietary information in these new shipper reviews should submit applications for disclosure under administrative protective order in accordance with 19 CFR 351.305 and 351.306.

This initiation and notice are published in accordance with section 751(a)(2)(B) of the Act and 19 CFR 351.214 and 351.221(c)(1)(i).

Dated: August 20, 2009.
John M. Andersen,
Acting Deputy Assistant Secretary for Antidumping and Countervailing Duty Operations.

[FR Doc. E9-20625 Filed 8-25-09; 8:45 am]

BILLING CODE 3510-DS-S